COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds services to the Procurement List that will be provided by nonprofit agencies employing persons who are blind or have other severe disabilities, and deletes product(s) and/or service(s) from the Procurement List previously furnished by such agencies.

DATES: Date added to and deleted from the Procurement List: October 15, 2017.

ADDRESSES: Committee for Purchase From People Who Are Blind or Severely Disabled, 1401 S. Clark Street, Suite 715, Arlington, Virginia, 22202-4149.

FOR FURTHER INFORMATION CONTACT: Amy B. Jensen, Telephone: (703) 603-7740, Fax: (703) 603-0655, or email CMTEFedReg@AbilityOne.gov.

SUPPLEMENTARY INFORMATION:

Additions

On 5/26/2017 (82 FR 24308-24309) and 6/30/2017 (82 FR 29852), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 8501-8506) in connection with the services proposed for addition to the Procurement List.

End of Certification

Accordingly, the following services are added to the Procurement List:

Service Type: Janitorial Service

Mandatory for: U.S. Census Bureau, National Processing Center, 1201 E 10th Street, Jeffersonville, IN

Mandatory Source(s) of Supply: Rauch, Inc., New Albany, IN

Contracting Activity: Dept of Commerce/Bureau of the Census

Service Type: Mail Management Support Service

Mandatory for:

U.S. Navy, NAVSUP Fleet Logistics Center Norfolk, Naval Support Activity, 700 Robbins Avenue, Philadelphia, PA

U.S. Navy, NAVSUP Fleet Logistics Center Norfolk, Naval Support Activity, 5450 Carlisle Pike, Mechanicsburg, PA

Mandatory Source(s) of Supply: NewView Oklahoma, Inc., Oklahoma City, OK

Contracting Activity: Dept of the Navy, NAVSUP Flt Log Ctr Norfolk

Deletions

On 8/11/2017 (83 FR 37577), the Committee for Purchase From People Who Are Blind or Severely Disabled published notice of proposed deletions from the Procurement List.

After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

NSN(s)—Product Name(s): 4820-00-052-4653—Valve, Ball

Mandatory Source(s) of Supply: The Opportunity Center Easter Seal Facility—The Ala ES Soc, Inc., Anniston, AL

Contracting Activity: Defense Logistics Agency Land and Maritime

NSN(s)—Product Name(s):

7045-01-599-5296—Privacy Filter, iPad

7530-01-515-7902—Paper, Printer, Ink Jet, Photo Quality, Double Side, 26 lb., Letter, 94 Bright White

Mandatory Source(s) of Supply: Wiscraft, Inc., Milwaukee, WI

Contracting Activity: General Services Administration, New York, NY

NSN(s)—Product Name(s):

7520-01-648-3552—Pen, Biobased, Gel Stick, Cushion Grip, Medium Point, Blue

7520-01-648-3553—Pen, Biobased, Gel Stick, Cushion Grip, Medium Point, Black

7520-01-648-3554—Pen, Biobased, Gel Stick, Cushion Grip, Medium Point, Red

Mandatory Source(s) of Supply: Alphapointe, Kansas City, MO

Contracting Activity: General Services Administration, New York, NY

Service

Service Type: Janitorial/Custodial Service

Mandatory for: Pennington Memorial U.S. Army Reserve Center: 2164 Harding Highway East, Marion, OH

Mandatory Source(s) of Supply: MARCA Industries, Inc., Marion, OH

Contracting Activity: DEPT OF THE ARMY, W6QM MICC FT MCCOY (RC)

Amy B. Jensen,
Director, Business Operations.

[FR Doc. 2017-19667 Filed 9-14-17; 8:45 am]

BILLING CODE 6353-01-P